DEPARTMENT OF HEALTH AND HUMAN SERVICES

Health Resources and Services Administration

Meeting of the Council on Graduate Medical Education

AGENCY: Health Resources and Services Administration (HRSA), Department of Health and Human Services (HHS).

ACTION: Notice.

SUMMARY: In accordance with the Federal Advisory Committee Act, this notice announces that the Council on Graduate Medical Education (COGME or Council) will hold public meetings for the 2020 calendar year (CY). Information about COGME, agendas, and materials for these meetings can be found on the COGME website at https://www.hrsa.gov/advisory-committees/graduate-medical-edu/index.html.

DATES: April 28-29, 2020, 8:30 a.m.-5:00 p.m. Eastern Time (ET) and 8:30 a.m.-2:00 p.m. ET; July 17, 2020, 10:00 a.m.-5:00 p.m. ET; December 8-9, 2020, 8:30 a.m.-5:00 p.m. ET and 8:30 a.m.-2:00 p.m.

ADDRESSES: The meetings scheduled on April 28-29, 2020, and December 8-9, 2020, will be held in-person at 5600 Fishers Lane, Room 5E29, Rockville, Maryland 20857. The meeting scheduled on July 17, 2020, will be held by teleconference/Adobe Connect webinar. Instructions for joining the meetings either in person or remotely will be posted on the COGME website 30 business days before the date of the meeting. For meeting information updates, go to the COGME website meeting page at https://www.hrsa.gov/advisory-committees/graduate-medical-edu/meetings/index.html.

FOR FURTHER INFORMATION CONTACT: Kennita Carter, MD, Senior Advisor and Designated Federal Official (DFO), Division of Medicine and Dentistry, Bureau of Health Workforce (BHW), HRSA, 5600 Fishers Lane, 15N116, Rockville, Maryland 20857; 301-945-9505; or BHWCOGME@hrsa.gov.

SUPPLEMENTARY INFORMATION: COGME makes recommendations to the Secretary of HHS (Secretary) and Congress on policy, program development, and other matters of significance as specified by section 762 of Title VII of the Public Health Service (PHS) Act. Issues addressed by COGME include the supply and distribution of the physician workforce in the United States, including any projected shortages or excesses; foreign medical school graduates; the nature and financing of undergraduate and graduate medical education; appropriation levels for certain programs under Title VII of the PHS Act and deficiencies in databases of the supply and distribution of the physician workforce and postgraduate programs for training physicians. COGME submits reports to the Secretary of HHS, the Senate Committee on Health, Education, Labor and Pensions, and the House of Representatives Committee on Energy and Commerce. Additionally, COGME encourages entities providing graduate medical education to conduct activities to voluntarily achieve the recommendations of the Council.

Agenda items are subject to change as priorities dictate. During the CY 2020 COGME meetings, COGME will discuss topics surrounding the rural health workforce. Refer to the COGME website listed above for all current and updated information concerning the CY 2020 COGME meetings, including draft agendas and meeting materials that will be posted before the meeting. An agenda will be posted on the website at least 14 calendar days before the meeting.

Members of the public will have the opportunity to provide comments. Public participants may submit written statements in advance of the scheduled meetings. Oral comments will be honored in the order they are requested and may be limited as time allows. Requests to submit a written statement or make oral comments to the COGME should be sent to Kennita Carter using the contact information above at least 5 business days before the meeting dates.

Individuals who need special assistance or another reasonable accommodation should notify Dr. Kennita Carter using the contact information listed above at least 10 business days before the meeting they wish to attend. Since all in person meetings occur in a federal government building, attendees must go through a security check to enter the building. Non-U.S. Citizen attendees must notify HRSA of their planned attendance at least 20 business days prior to the meeting in order to facilitate their entry into the building. All attendees are required to present government-issued identification prior to entry.

Maria G. Button,
Director, Executive Secretariat.

[FR Doc. 2019-22649 Filed 10-16-19; 8:45 am]

BILLING CODE 4165-15-P